DEPARTMENT OF DEFENSE

Office of the Secretary

Notice of Intent To Expand Implementation of the TRICARE Program in Alaska

AGENCY: Office of the Assistant Secretary of Defense for Health Affairs, DoD.

ACTION: Notice.

SUMMARY: The Office of the Assistant Secretary of Defense for Health Affairs announces the intent to expand implementation of the TRICARE Program in Alaska. The expansion will require the Managed Care Support contractor to develop and operate a TRICARE civilian preferred provider network under 32 CFR 199.17(p) in two Prime Service Areas in the state of Alaska. Eligible TRICARE beneficiaries will be permitted to enroll in Prime with assignment to Military Treatment Facility (MTF) Primary Care Managers (PCMs) consistent with the established priorities provided in 32 CFR 199.17(c) or assignment to a PCM within the TRICARE civilian preferred provider network. The program will be offered to the Prime Service Areas around the MTFs located on Fort Wainwright and Eielson Air Force Base.

FOR FURTHER INFORMATION CONTACT: LTC Stephen Oates, TRICARE Policy and Operations Directorate, TRICARE Management Activity, 5111 Leesburg Pike, Suite 810, Falls Church, Virginia 22041, (703) 681-0039.

Dated: October 21, 2010.
Patricia L. Toppings,
OSD Federal Register Liaison Officer, Department of Defense.

[FR Doc. 2010-27771 Filed 11-2-10; 8:45 am]

BILLING CODE 5001-06-P